DEPARTMENT OF COMMERCE

International Trade Administration

[A-588-826]

Corrosion-Resistant Carbon Steel Flat Products From Japan; Final Results of Full Sunset Review of Antidumping Duty Order

AGENCY: Import Administration, International Trade Administration, Department of Commerce.

ACTION: Notice of final results of full sunset review: Corrosion-Resistant Carbon Steel Flat Products from Japan.

SUMMARY: On March 27, 2000, the Department of Commerce (“the Department”) published a notice of preliminary results of the full sunset review of the antidumping duty order on corrosion-resistant carbon steel flat products from Japan (65 FR 16169) pursuant to section 751(c) of the Tariff Act of 1930, as amended (“the Act”). We provided interested parties an opportunity to comment on our preliminary results. We received comments from both domestic and respondent interested parties. As a result of this review, the Department finds that revocation of this order would be likely to lead to continuation or recurrence of dumping.

EFFECTIVE DATE: August 2, 2000.

FOR FURTHER INFORMATION CONTACT: Kathryn B. McCormick or James Maeder, Office of Policy for Import Administration, International Trade Administration, U.S. Department of Commerce, 14th Street and Constitution Avenue, NW, Washington, D.C. 20230; telephone: (202) 482-1930 or (202) 482-3330, respectively.

SUPPLEMENTARY INFORMATION:

Statute and Regulations

This review is being conducted pursuant to sections 751(c) and 752 of the Act. The Department's procedures for the conduct of sunset reviews are set forth in Procedures for Conducting Five-year (“Sunset”) Reviews of Antidumping and Countervailing Duty Orders, 63 FR 13516 (March 20, 1998) (“Sunset Regulations”) and in CFR part 351 (1999) in general. Guidance on methodological or analytical issues relevant to the Department's conduct of sunset reviews is set forth in the Department's Policy Bulletin 98.3—Policies Regarding the Conduct of Five-year (“Sunset”) Reviews of Antidumping and Countervailing Duty Orders; Policy Bulletin, 63 FR 18871 (April 16, 1998) (“Sunset Policy Bulletin”).

Background

On March 27, 2000, the Department of Commerce (“the Department”) published in the Federal Register a notice of preliminary results of the full sunset review of the antidumping duty order on corrosion-resistant carbon steel flat products from Japan (65 FR 16169) pursuant to section 751(c) of the Tariff Act of 1930, as amended (“the Act”). In our preliminary results, we found that revocation of the order would likely result in continuation or recurrence of dumping with net margins of 36.41 percent for Nippon Steel Corporation (“NSC”), Kawasaki Steel Corporation (“Kawasaki”) and “all others.”

On April 26, 2000, Bethlehem Steel Corporation, U.S. Steel Group, a unit of USX Corporation (“domestic interested parties”) requested a hearing in the sunset review. On May 1, 2000, NSC notified the Department of its intent to participate in the hearing. Subsequently, interested parties withdrew their requests for a hearing.

On May 5, 2000, we received a request from NSC for an extension of the deadline for filing case briefs; the Department extended the deadline for filing case briefs and rebuttal briefs for all participants eligible to participate until May 12, 2000, and May 18, 2000, respectively.

On May 12, 2000, within the deadline specified in 19 CFR 351.309(c)(1)(i), we received a case brief on behalf of NSC. On May 17, 2000, domestic interested parties requested an extension of the deadline for filing rebuttal briefs. On May 19, 2000, the Department granted an extension for domestic interested parties to file rebuttal briefs until May 23, 2000. Also, on May 17, 2000, we received a request from NSC to file a letter in response to domestic interested parties' failure to file a case brief. On May 19, 2000, the Department, pursuant to 19 CFR 351.309(d)(2), rejected NSC's request.

We received a rebuttal brief from domestic interested parties on May 23, 2000.

Scope of Review

The order covers flat-rolled carbon steel products, of rectangular shape, either clad, plated, or coated with corrosion-resistant metals such as zinc, aluminum, or zinc-, aluminum-, nickel-or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or, if of a thickness of 4.75 millimeters or more, are of a width which exceeds 150 millimeters and measures at least twice the thickness.¹ These products are currently classifiable in the Harmonized Tariff Schedule (“HTS”) under item numbers 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, and 7217.90.5090.

¹ See Certain Corrosion-Resistant Carbon Steel Flat Products from Japan: Preliminary Results of Antidumping Duty Administrative Review, 64 FR 44483 (August 16, 1999).

Included in this order are flat-rolled products of non-rectangular cross-section where such cross-section is achieved subsequent to the rolling process (i.e., products which have been “worked after rolling”)—for example, products which have been bevelled or rounded at the edges.

Excluded from order are flat-rolled steel products either plated or coated with tin, lead, chromium, chromium oxides, both tin and lead (“terne plate”), or both chromium and chromium oxides (“tin-free steel”), whether or not painted, varnished or coated with plastics or other nonmetallic substances in addition to the metallic coating. Also excluded from these investigations are clad products in straight lengths of 0.1875 inch or more in composite thickness and of a width which exceeds 150 millimeters and measures at least twice the thickness. Also excluded are certain clad stainless flat-rolled products which are three-layered corrosion-resistant carbon steel flat-rolled products less than 4.75 millimeters in composite thickness that consist of a carbon steel flat-rolled product clad on both sides with stainless steel in a 20-60-20 percent ratio. The HTS item numbers are provided for convenience and Customs purposes. The written description remains dispositive.

Also excluded are certain corrosion-resistant carbon steel flat products meeting the following specifications: (1) Widths ranging from 10 millimeters (0.394 inches) through 100 millimeters (3.94 inches); (2) thicknesses, including coatings, ranging from 0.11 millimeters (0.004 inches) through 0.60 millimeters (0.024 inches); and (3) a coating that is from 0.003 millimeters (0.00012 inches) through 0.005 millimeters (0.000196 inches) in thickness and that is comprised of either two evenly applied layers, the first layer consisting of 99 percent zinc, 0.5 percent cobalt, and 0.5 percent molybdenum followed by a layer consisting of chromate, and finally, a layer consisting of silicate.

There have been three completed changed circumstances administrative reviews. On December 22, 1997, the Department published the final results of a changed circumstances review requested by Sudo Corporation.² In this review, the Department revoked the antidumping duty order with regard to certain electrolytic zinc-coated steel coiled rolls from Japan.

² See Certain Corrosion-Resistant Carbon Steel Flat Products from Japan: Final Results of Change Circumstances Antidumping Duty Administrative Review, and Revocation in Part of Antidumping Duty Order, 62 FR 66848 (December 22, 1997).

In the second changed circumstances review, requested by Uchiyama, the Department revoked the antidumping duty order with regard to certain corrosion-resistant carbon steel flat products used in the manufacture of rubber seals and metal inserts for ball bearings.³

³ See Certain Corrosion-Resistant Carbon Steel Flat Products from Japan: Final Results of Change Circumstances Antidumping Duty Administrative Review, and Revocation in Part of Antidumping Duty Order, 64 FR 14861 (March 29, 1999).

The Department completed a third changed circumstances review, requested by Taiho Corporation of America, in which it determined to revoke the order with respect to (1) certain products meeting the requirements of SAE standard 792 for Bearing and Bushing Alloys, and (2) certain products meeting the requirements of SAE standard 783 for Bearing and Bushing Alloys.⁴

⁴ See Certain Corrosion-Resistant Carbon Steel Flat Products from Japan: Final Results of Change Circumstances Antidumping Duty Administrative Review, and Revocation in Part of Antidumping Duty Order, 64 FR 57032 (October 22, 1999).

A fourth changed circumstances review was initiated on July 12, 2000.⁵

⁵ See Certain Corrosion-Resistant Carbon Steel Flat Products from Japan: Notice of Initiation of Change Circumstances Review of the Antidumping Order and Intent to Revoke the Order in Part, 65 FR 42986 (July 12, 2000).

There has been one circumvention inquiry initiated regarding this proceeding. On October 30, 1998, the Department initiated an anticircumvention inquiry regarding boron-added corrosion-resistant carbon steel flat products from Japan.⁶ The inquiry was subsequently enjoined by the Court of International Trade in Nippon Steel v. United States, Ct. No. 98-10-03102 (Ct. Int'l Trade). The case is now pending before the Court of Appeals for the Federal Circuit, No. 99-1379, 1386 (Fed.Cir.).

⁶ See Corrosion-Resistant Carbon Steel Flat Products from Japan; Initiation of Anticircumvention Inquiry on Antidumping Duty Order, 63 FR 58364 (October 30, 1998).

The Department has conducted one scope ruling at the request of Drive Automotive Industries of America, Inc. (“Drive Automotive”). On February 24, 1998, the Department found that steel coils imported by Drive Automotive and having a thickness of 0.8 mm and a width of 2000 mm, electrolytically coated with zinc, were within the scope of the order (63 FR 29700, June 1, 1998).

Analysis of Comments Received

All issues raised in the case and rebuttal briefs by parties to this sunset review are addressed in the “Issues and Decision Memorandum” (“Decision Memo”) from Jeffrey A. May, Director, Office of Policy, Import Administration, to Troy H. Cribb, Acting Assistant Secretary for Import Administration, dated July 27, 2000, which is hereby adopted by this notice. The issues discussed in the Decision Memo include the likelihood of continuation or recurrence of dumping and the magnitude of the margin likely to prevail were the order revoked. Parties can find a complete discussion of all issues raised in this review and the corresponding recommendations in this public memorandum which is on file in the Central Record Unit, room B-099, of the main Commerce building.

In addition, a complete version of the Decision Memo can be accessed directly on the Web at www.ita.doc.gov/import_admin/records/frn/, under the heading “Japan.” The paper copy and electronic version of the Decision Memo are identical in content.

Final Results of Review

We determine that revocation of the antidumping duty order on corrosion-resistant carbon steel flat products from Japan would be likely to lead to continuation or recurrence of dumping at the following percentage weighted-average margins:

Manufacturer/exporters | Margin (percent)
Nippon Steel Corporation | 36.41
Kawasaki Steel Corporation | 36.41
All Others | 36.41

This notice also serves as the only reminder to parties subject to administrative protective orders (“APO”) of their responsibility concerning the return or destruction of proprietary information disclosed under APO in accordance with 19 CFR 351.305. Timely notification of the return or destruction of APO materials or conversion to judicial protective order is hereby requested. Failure to comply with the regulations and terms of an APO is a violation which is subject to sanction.

This five-year (“sunset”) review and notice are in accordance with sections 751(c), 752, and 777(i)(1) of the Act.

Dated: July 27, 2000.
Troy H. Cribb,
Acting Assistant Secretary for Import Administration.

[FR Doc. 00-19562 Filed 8-1-00; 8:45 am]

BILLING CODE 3510-DS-P